DEPARTMENT OF DEFENSE

Office of the Secretary

[Transmittal No. 24-43]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-43, Policy Justification, and Sensitivity of Technology.

Dated: November 13, 2025.
Aaron T. Siegel,
Alternate OSD Federal Register Liaison Officer, Department of Defense.

BILLING CODE 6001-FR-P

BILLING CODE 6001-FR-C

Transmittal No. 24-43

Notice of Proposed Issuance of Letter of Offer Pursuant to Section 36(b)(1) of the Arms Export Control Act, as amended

(i) Prospective Purchaser: Kingdom of Saudi Arabia

(ii) Total Estimated Value:

Major Defense Equipment * | $ 0
Other | $2.8 billion
TOTAL | $2.8 billion

Funding Source: National Funds

(iii) Description and Quantity or Quantities of Articles or Services under Consideration for Purchase:

Major Defense Equipment (MDE):

None

Non-MDE:

Follow-on logistics support and services, including for Joint Mission Planning Software (JMPS) and support; KIV-77/78 cryptographic devices and support; spares and repair parts, consumables and accessories, and repair and return support; calibration support and test equipment; ground and personnel equipment; classified and unclassified software and software support, classified and unclassified publications and technical documentation; personnel training and training equipment; U.S. Government and contractor engineering, technical, and logistics support services; and other related elements of logistics and program support, in support of, but not limited to, KC-130J, C-130, E-3, RE-3, KE-3, KA-350, Bell 212, and Bell 412 aircraft.

(iv) Military Department: Air Force

(v) Prior Related Cases, if any: SR-D-GAK, SR-D-QBP, SR-D-QDR, SR-D-QDJ, SR-D-QBW, SR-D-QTP, SR-D-QAT, SR-D-QDQ, SR-D-QAY, SR-D-QAH

(vi) Sales Commission, Fee, etc., Paid, Offered, or Agreed to be Paid: None known at this time

(vii) Sensitivity of Technology Contained in the Defense Article or Defense Services Proposed to be Sold: See Attached Annex

(viii) Date Report Delivered to Congress: July 23, 2024

* as defined in Section 47(6) of the Arms Export Control Act.

POLICY JUSTIFICATION

Kingdom of Saudi Arabia—System Logistics and Sustainment Support

The Kingdom of Saudi Arabia has requested to buy follow-on logistics support and services, including for Joint Mission Planning Software (JMPS) hardware and support; KIV-77/78 cryptographic devices and support; spares and repair parts, consumables and accessories, and repair and return support; calibration support and test equipment; ground and personnel equipment; classified and unclassified software and software support, classified and unclassified publications and technical documentation; personnel training and training equipment; U.S. Government and contractor engineering, technical, and logistics support services; and other related elements of logistics and program support, in support of, but not limited to, KC-130J, C-130, E-3, RE-3, KE-3, KA 350, Bell 212, and Bell 412 aircraft. The estimated total program cost is $2.8 billion.

This proposed sale will support the foreign policy goals and national security objectives of the United States by improving the security of a partner country that is a force for political stability and economic progress in the Gulf Region.

The proposed sale will improve the Kingdom of Saudi Arabia's capability to deter current and future threats by providing sustainment and training support of the Royal Saudi Air Force's existing platforms and aircraft fleets. The Kingdom of Saudi Arabia will have no difficulty absorbing this equipment and these services into its armed forces.

The proposed sale of this equipment and support will not alter the basic military balance in the region.

There will be various contractors associated with the provision of equipment and services involved with this case, and there is no prime contractor. There are no known offset agreements proposed in connection with this potential sale.

The implementation of this proposed sale may require the assignment of a small number of additional long-term U.S. Government or contractor representatives to the Kingdom of Saudi Arabia.

There will be no adverse impact on U.S. defense readiness as a result of this proposed sale.

Transmittal No. 24-43

Notice of Proposed Issuance of Letter of Offer Pursuant to Section 36(b)(1) of the Arms Export Control Act

Annex

Item No. vii

(vii) Sensitivity of Technology:

1. The Joint Mission Planning System (JMPS) is a multi-platform, computer-based mission planning system. Its modular suite of systems is tailored to user needs, allowing operators of various aircraft to install planning modules required for flight planning, weapons delivery planning, post-flight debrief, and operational integration.

2. The KIV-77/78 is a cryptographic applique for Identification Friend or Foe systems. It can be loaded with Mode 5 classified elements.

3. The highest level of classification of defense articles, components, and services included in this potential sale is SECRET.

4. If a technologically advanced adversary were to obtain knowledge of the specific hardware and software elements, the information could be used to develop countermeasures that might reduce weapon system effectiveness or be used in the development of a system with similar or advanced capabilities.

5. A determination has been made that the Kingdom of Saudi Arabia can provide substantially the same degree of protection for the sensitive technology being released as the U.S. Government. This sale is necessary in furtherance of the U.S. foreign policy and national security objectives outlined in the Policy Justification.

6. All defense articles and services listed in this transmittal have been authorized for release and export to the Kingdom of Saudi Arabia.

[FR Doc. 2025-20079 Filed 11-17-25; 8:45 am]

BILLING CODE 6001-FR-P